DEPARTMENT OF HOMELAND SECURITY

Coast Guard

33 CFR Part 117

[CGD01-06-111]

Drawbridge Operation Regulations; Housatonic River, Stratford, CT

AGENCY: Coast Guard, DHS.

ACTION: Notice of temporary deviation from regulations.

SUMMARY: The Commander, First Coast Guard District, has issued a temporary deviation from the regulation governing the operation of the U.S. 1 Bridge, across the Housatonic River, mile 3.5, at Stratford, Connecticut. Under this temporary deviation, only one of the two moveable bascule spans will be opened for the passage of vessel traffic. This deviation is necessary to facilitate scheduled bridge maintenance.

DATES: This deviation is effective from September 18, 2006 through November 16, 2006.

ADDRESSES: Materials referred to in this document are available for inspection or copying at the First Coast Guard District, Bridge Branch Office, One South Street, New York, New York 10004, between 7 a.m. and 3 p.m., Monday through Friday, except Federal holidays. The First Coast Guard District Bridge Branch Office maintains the public docket for this temporary deviation.

FOR FURTHER INFORMATION CONTACT: Judy Leung-Yee, Project Officer, First Coast Guard District, at (212) 668-7165.

SUPPLEMENTARY INFORMATION: The U.S. 1 Bridge across the Housatonic River, mile 3.5, at Stratford, Connecticut, has a vertical clearance in the closed position of 32 feet at mean high water and 37 feet at mean low water. The existing operating regulations are listed at 33 CFR 117.207(a).

The bridge owner, Connecticut Department of Transportation, requested a temporary deviation to allow opening only one of the two moveable bascule spans for the passage of vessel traffic from September 18, 2006 through November 16, 2006, in order to facilitate scheduled bridge maintenance.

Under this temporary deviation, the U.S. 1 Bridge need only open one of the two movable bascule spans for the passage of vessel traffic from September 18, 2006 through November 16, 2006. Two-span, full bridge, openings shall be provided upon request, if at least a three-day advance notice is given, by calling the number posted at the bridge. Otherwise, the bridge will continue to open during this temporary deviation in accordance with the schedule specified in 33 CFR 117.207(a).

In accordance with 33 CFR 117.35(c), this work will be performed with all due speed in order to return the bridge to normal operation as soon as possible.

Should the bridge maintenance authorized by this temporary deviation be completed before the end of the effective period published in this notice, the Coast Guard will rescind the remainder of this temporary deviation, the bridge shall be returned to its normal operating schedule, and notice will be provided to the public.

This deviation from the operating regulations is authorized under 33 CFR 117.35.

Dated: August 28, 2006.
Gary Kassof,
Bridge Program Manager, First Coast Guard District.

[FR Doc. E6-14834 Filed 9-6-06; 8:45 am]

BILLING CODE 4910-15-P